FEDERAL COMMUNICATIONS COMMISSION

47 CFR Part 73

[DA 01-2106; MM Docket No. 01-225, RM-10253; MM Docket No. 01-226, RM-10254; MM Docket No. 01-227, RM-10255; MM Docket No. 01-228, RM-10256; MM Docket No. 01-229, RM-10257; MM Docket No. 01-230, RM-10258; MM Docket No. 01-231, RM-10259; MM Docket No. 01-232, RM-10260; MM Docket No. 01-233, RM-10261; MM Docket No. 01-234, RM-10262]

Radio Broadcasting Services; Hartshorne, OK; Mooreland, OK; Reydon, OK; Junction, TX; Caseville, MI; Deckerville, MI; Harbor Beach, MI; Port Sanilac, MI; Alton, MO; and Firth, NE

AGENCY: Federal Communications Commission.

ACTION: Proposed rule.

SUMMARY: This document proposes ten allotments in Hartshorne, OK, Moorland, OK, Reydon, OK, Junction, TX, Caseville, MI, Deckerville, MI, Harbor Beach, MI, Port Sanilac, MI, Alton, MO and Firth, NE. The Commission requests comment on a petition filed by Maurice Salsa proposing the allotment of Channel 252A at Hartshorne, Oklahoma, as the community's first local aural broadcast service. Channel 252A can be allotted to Hartshorne in compliance with the Commission's minimum distance separation requirements with a site restriction of 12.5 km (7.8 miles) southwest of Hartshorne. The coordinates for Channel 252A2 at Hartshorne are 34-45-18 North Latitude and 95-38-24 West Longitude. See Supplementary Information infra.

DATES: Comments must be filed on or before October 29, 2001, and reply comments on or before November 13, 2001.

ADDRESSES: Federal Communications Commission, Washington, DC 20554. In addition to filing comments with the FCC, interested parties should serve the petitioner as follows: Maurice Salsa, 5615 Evergreen Valley Drive, Kingwood, Texas 77345; Katherine Pyeatt, 6655 Aintree Circle, Dallas, Texas 75214; Jeraldine Anderson, 1702 Cypress Drive, Irving, Texas 75061; Charles Crawford, 4553 Bordeaux Avenue, Dallas, Texas 75205; and Stephen Gajdosik, President, Starboard Broadcasting, Inc., 2470 Crooks Avenue, Kaukauna, Wisconsin 54130.

FOR FURTHER INFORMATION CONTACT: Deborah A. Dupont, Mass Media Bureau (202) 418-7072.

SUPPLEMENTARY INFORMATION: This is a synopsis of the Commission's Notice of Proposed Rule Making, MM Docket Nos 01-225, 01-226, 01-227, 01-228, 01-229, 01-230, 01-231, 01-232, 01-233, and 01-234; adopted August 29, 2001 and released September 7, 2001. The full text of this Commission decision is available for inspection and copying during normal business hours in the FCC Reference Information Center (Room CY-A257), 445 12th Street, S.W., Washington, D.C. The complete text of this decision may also be purchased from the Commission's copy contractor, Qualex International, Portals II, 445 12th Street, S.W., Room CY-B402, Washington, D.C. 20554, telephone (202) 863-2893.

The Commission further requests comment on a petition filed by Katherine Pyeatt proposing the allotment of Channel 300C2 at Mooreland, Oklahoma, as the community's second aural broadcast transmission service. Channel 300C2 can be allotted to Mooreland in compliance with the Commission's minimum distance separation requirements with a site restriction of 4.4 km (2.8 miles) northwest of Mooreland. The coordinates for Channel 300C2 at Mooreland are 36-27-59 North Latitude and 99-14-27 West Longitude.

The Commission further requests comments on a petition filed by Katherine Pyeatt, proposing the allotment of Channel 264C2 at Reydon, Oklahoma, as the community's first local aural broadcast service. Channel 264C2 can be allotted to Reydon in compliance with the Commission's minimum distance separation requirements with a site restriction of 29.9 km (18.6 miles) south of Reydon. The coordinates for Channel 264C2 at Reydon are 35-23-11 North Latitude and 99-52-38 West Longitude.

The Commission further requests comment on a petition filed by Jeraldine Anderson proposing the allotment of Channel 284A at Junction, Texas, as potentially the community's fourth FM transmission service. (Two rulemakings are pending to consider allocation of Channels 297A and 277C3 as second and third FM transmission services.) Channel 284A can be allotted to Junction in compliance with the Commission's minimum distance separation requirements with a site restriction of 2.1 km (1.3 miles) southeast of Junction. The coordinates for Channel 284A at Junction are 30-28-19 North Latitude and 99-45-47 West Longitude.

The Commission further requests comment on a petition filed by Charles Crawford proposing the allotment of Channel 289A at Caseville, Michigan, as the community's first local aural broadcast service. Channel 289A can be allotted to Caseville in compliance with the Commission's minimum distance separation requirements with no site restriction at center city coordinates. The coordinates for Channel 289A at Caseville are 43-56-28 North Latitude and 83-16-17 West Longitude. The proposed allotment will require concurrence by Canada because Caseville is located within 320 kilometers (199 miles) of the Canadian border.

The Commission further requests comment on a petition filed by Charles Crawford proposing the allotment of Channel 297A at Deckerville, Michigan, as the community's first local aural broadcast service. Channel 297A can be allotted to Deckerville in compliance with the Commission's minimum distance separation requirements with a site restriction of 8.7 km (5.4 miles) northwest of Deckerville. The coordinates for Channel 297A at Deckerville are 43-34-38 North Latitude and 82-49-05 West Longitude. The proposed allotment will require concurrence by Canada because Deckerville is located within 320 kilometers (199 miles) of the Canadian border.

The Commission further requests comment on a petition filed by Charles Crawford proposing the allotment of Channel 256A at Harbor Beach, Michigan, as the community's second FM allotment. Channel 256A can be allotted to Harbor Beach in compliance with the Commission's minimum distance separation requirements with no site restriction at center city coordinates. The coordinates for Channel 256A at Harbor Beach are 43-50-41 North Latitude and 82-39-05 West Longitude. The proposed allotment will require concurrence by Canada because Harbor Beach is located within 320 kilometers (199 miles) of the Canadian border.

The Commission further requests comment on a petition filed by Charles Crawford proposing the allotment of Channel 225A at Port Sanilac, Michigan, as the community's first local aural broadcast service. Channel 225A can be allotted to Port Sanilac in compliance with the Commission's minimum distance separation requirements with a site restriction of 8.4 km (5.2 miles) west of Port Sanilac. The coordinates for Channel 225A at Port Sanilac are 43-26-57 North Latitude and 82-38-35 West Longitude. The proposed allotment will require concurrence by Canada because Port Sanilac is located within 320 kilometers (199 miles) of the Canadian border.

The Commission further requests comment on a petition filed by Charles Crawford proposing the allotment of Channel 290A at Alton, Missouri, as the community's first local aural broadcast service. Channel 290A can be allotted to Alton in compliance with the Commission's minimum distance separation requirements with a site restriction of 5.6 km (3.5 miles) north of Alton. The coordinates for Channel 290A at Alton are 36-44-39 North Latitude and 91-24-28 West Longitude.

The Commission further requests comment on a petition filed by Starboard Broadcasting, Inc. proposing the allotment of Channel 229A at Firth, Nebraska, as the community's first local aural broadcast service. Channel 229A can be allotted to Firth in compliance with the Commission's minimum distance separation requirements with a site restriction of 10.8 km (6.7 miles) northwest of Firth. The coordinates for Channel 229A at Firth are 40-36-32 North Latitude and 96-41-08 West Longitude.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. §§ 154, 303, 334 and 336.

§ 73.202 [Amended]

2. Section 73.202(b), the Table of FM Allotments under Oklahoma, is amended by adding Hartshorne, Channel 252A, by adding Channel 300C2 at Mooreland, and by adding Reydon, Channel 264C2.

3. Section 73.202(b), the Table of FM Allotments under Michigan, is amended by adding Caseville, Channel 289A, by adding Deckerville, Channel 297A, by adding Channel 256A at Harbor Beach, and by adding Port Sanilac, Channel 225A.

4. Section 73.202(b), the Table of FM Allotments under Missouri, is amended by adding Alton, Channel 290A.

5. Section 73.202(b), the Table of FM Allotments under Nebraska, is amended by adding Firth, Channel 229A.

6. Section 73.202(b), the Table of FM Allotments under Texas, is amended by adding Channel 284A at Junction.

Federal Communications Commission.
John A. Karousos,
Chief, Allocations Branch, Policy and Rules Division, Mass Media Bureau.

[FR Doc. 01-23185 Filed 9-17-01; 8:45 am]

BILLING CODE 6712-01-P